DEPARTMENT OF TRANSPORTATION

Federal Aviation Administration

14 CFR Parts 121, 125, and 129

[Docket No. FAA-2001-10910; Amendment Nos. 121-297, 125-41, and 129-37]

RIN 2120-AG90

Collision Avoidance Systems; Correction

AGENCY: Federal Aviation Administration (FAA), DOT.

ACTION: Final rule; correction.

SUMMARY: This document makes a correction to the amendment numbers in the final rule published in the Federal Register on April 1, 2003. That action revised the applicability of certain collision avoidance system requirements for airplanes.

EFFECTIVE DATE: This correction is effective on February 11, 2004.

FOR FURTHER INFORMATION CONTACT: Alberta Brown, telephone (202) 267-8321.

Correction

In the final rule FR Doc. 03-7653, published on April 1, 2003 (68 FR 15884), make the following correction:

1. On page 15884, in column 1 in the heading section, beginning on line 4, correct “Amendment Nos. 121-286, 125-41, and 129-37” to read “Amendment Nos. 121-297, 125-41, and 129-37”.

Issued in Washington, DC on January 30, 2004.
Donald P. Byrne,
Assistant Chief Counsel for Regulations.

[FR Doc. 04-2881 Filed 2-10-04; 8:45 am]

BILLING CODE 4910-13-U